DEPARTMENT OF JUSTICE

Antitrust Division

Notice Pursuant to the National Cooperative Research and Production Act of 1993—HR-XML Consortium, Inc.

Notice is hereby given that, on August 27, 2004, pursuant to Section 6(a) of the National Cooperative Research and Production Act of 1993, 15 U.S.C. 4301 et seq. (“the Act”), HR-XML Consortium, Inc. (“HR-XML”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: HR-XML Consortium, Inc., Raleigh, NC. The nature and scope of HR-XML's standards development activities are: the development of voluntary, consensus standards for data interchange between and among human resource (HR) management systems. Topics for data interchange standards considered by HR-XML include: Payroll, employee benefits, compensation, recruiting, temporary staffing, background checks, drug testing, assessments, competencies, HR business process outsourcing, and other HR management processes.

Dorothy B. Fountain,
Deputy Director of Operations, Antitrust Division.

[FR Doc. 04-26220 Filed 11-26-04; 8:45 am]

BILLING CODE 4410-11-M